DEPARTMENT OF ENERGY

Federal Energy Regulatory Commission

Combined Notice of Filings #1

Take notice that the Commission received the following exempt wholesale generator filings:

Docket Numbers: EG25-119-000.

Applicants: La Casa Wind, LLC.

Description: La Casa Wind, LLC submits Notice of Self-Certification of Exempt Wholesale Generator Status.

Filed Date: 2/4/25.

Accession Number: 20250204-5187.

Comment Date: 5 p.m. ET 2/25/25.

Docket Numbers: EG25-120-000.

Applicants: Carol Renewable Energy, LLC.

Description: Carol Renewable Energy, LLC submits Notice of Self-Certification of Exempt Wholesale Generator Status.

Filed Date: 2/4/25.

Accession Number: 20250204-5190.

Comment Date: 5 p.m. ET 2/25/25.

Docket Numbers: EG25-121-000.

Applicants: Throckmorton Wind, LLC.

Description: Throckmorton Wind, LLC submits Notice of Self-Certification of Exempt Wholesale Generator Status.

Filed Date: 2/4/25.

Accession Number: 20250204-5197.

Comment Date: 5 p.m. ET 2/25/25.

Docket Numbers: EG25-122-000.

Applicants: Hart Wind, LLC.

Description: Hart Wind, LLC submits Notice of Self-Certification of Exempt Wholesale Generator Status.

Filed Date: 2/4/25.

Accession Number: 20250204-5209.

Comment Date: 5 p.m. ET 2/25/25.

Docket Numbers: EG25-123-000.

Applicants: Willow Creek Wind Project, LLC.

Description: Willow Creek Wind Project, LLC submits Notice of Self-Certification of Exempt Wholesale Generator Status.

Filed Date: 2/4/25.

Accession Number: 20250204-5215.

Comment Date: 5 p.m. ET 2/25/25.

Docket Numbers: EG25-124-000.

Applicants: Salt Creek Wind LLC.

Description: Salt Creek Wind, LLC submits Notice of Self-Certification of Exempt Wholesale Generator Status.

Filed Date: 2/4/25.

Accession Number: 20250204-5216.

Comment Date: 5 p.m. ET 2/25/25.

Docket Numbers: EG25-126-000.

Applicants: Golden Fields Solar IV Bess LLC.

Description: Golden Fields Solar IV Bess LLC submits Notice of Self-Certification of Exempt Wholesale Generator Status.

Filed Date: 2/5/25.

Accession Number: 20250205-5083.

Comment Date: 5 p.m. ET 2/26/25.

Docket Numbers: EG25-127-000.

Applicants: Hornshadow Solar, LLC.

Description: Hornshadow Solar, LLC submits Notice of Self-Certification of Exempt Wholesale Generator Status.

Filed Date: 2/5/25.

Accession Number: 20250205-5094.

Comment Date: 5 p.m. ET 2/26/25.

Docket Numbers: EG25-128-000.

Applicants: Hornshadow Solar 2, LLC.

Description: Hornshadow Solar 2, LLC submits Notice of Self-Certification of Exempt Wholesale Generator Status.

Filed Date: 2/5/25.

Accession Number: 20250205-5095.

Comment Date: 5 p.m. ET 2/26/25.

Take notice that the Commission received the following electric rate filings:

Docket Numbers: ER10-2042-056; ER10-1858-014; ER10-1862-049; ER10-1863-016; ER10-1865-022; ER10-1870-014; ER10-1871-015; ER10-1873-024; ER10-1875-024; ER10-1876-025; ER10-1877-013; ER10-1878-024; ER10-1883-024; ER10-1884-024; ER10-1885-024; ER10-1888-024; ER10-1889-014; ER10-1893-049; ER10-1895-014; ER10-1934-049; ER10-1938-050; ER10-1941-024; ER10-1942-047; ER10-1944-014; ER10-1947-025; ER10-2036-017; ER10-2040-016; ER10-2041-016; ER10-2043-016; ER10-2044-016; ER10-2051-016; ER10-2985-053; ER10-3049-054; ER10-3051-054; ER10-3260-016; ER11-4369-034; ER12-1987-022; ER12-2261-023; ER12-2645-017; ER13-1401-014; ER13-1407-019; ER14-2931-014; ER16-2218-035; ER17-696-035; ER18-1321-009; ER19-1127-014; ER20-1699-012; ER20-1939-007; ER23-944-012; ER24-15-004; ER10-2029-018.

Applicants: Calpine Mid-Atlantic Marketing, LLC, Nova Power, LLC, Calpine Community Energy, LLC, Calpine Northeast Development, LLC, Johanna Energy Center, LLC, Calpine King City Cogen, LLC, Calpine Mid-Merit II, LLC, Calpine Energy Solutions, LLC, North American Power Business, LLC, Calpine Fore River Energy Center, LLC,CCFC Sutter Energy, LLC, Westbrook Energy Center, LLC, Pastoria Energy Facility L.L.C., Russell City Energy Company, LLC, O.L.S. Energy-Agnews, Inc., North American Power and Gas, LLC, Granite Ridge Energy, LLC, Champion Energy, LLC, Champion Energy Services, LLC, Champion Energy Marketing LLC, Calpine Bethlehem, LLC, Zion Energy LLC, Calpine Mid-Atlantic Generation, LLC, Calpine Mid Merit, LLC, Calpine New Jersey Generation, LLC, Calpine Vineland Solar, LLC, Otay Mesa Energy Center, LLC, Bethpage Energy Center 3, LLC, Calpine Construction Finance Co., L.P., Calpine Gilroy Cogen, L.P., Calpine Power America—CA, LLC,CES Marketing IX, LLC,KIAC Partners, CES Marketing X, LLC,CPN Bethpage 3rd Turbine, Inc., Creed Energy Center, LLC, Delta Energy Center, LLC, Geysers Power Company, LLC, Gilroy Energy Center, LLC, Goose Haven Energy Center, LLC, Hermiston Power, LLC, Los Esteros Critical Energy Facility, LLC, Los Medanos Energy Center LLC, Metcalf Energy Center, LLC, Morgan Energy Center, LLC, Nissequogue Cogen Partners, South Point Energy Center, LLC, Pine Bluff Energy, LLC, Power Contract Financing, L.L.C., TBG Cogen Partners, Calpine Energy Services, L.P.

Description: Notice of Change in Status of Calpine Energy Services, L.P., et al.

Filed Date: 1/31/25.

Accession Number: 20250131-5570.

Comment Date: 5 p.m. ET 2/21/25.

Docket Numbers: ER10-2214-010.

Applicants: Zion Energy LLC.

Description: Compliance filing: Informational Filing Regarding Upstream Transfer of Ownership to be effective N/A.

Filed Date: 2/4/25.

Accession Number: 20250204-5182.

Comment Date: 5 p.m. ET 2/25/25.

Docket Numbers: ER12-954-010.

Applicants: Calpine Mid Merit, LLC.

Description: Compliance filing: Informational Filing Regarding Upstream Transfer of Ownership to be effective N/A.

Filed Date: 2/4/25.

Accession Number: 20250204-5173.

Comment Date: 5 p.m. ET 2/25/25.

Docket Numbers: ER14-873-010.

Applicants: Calpine New Jersey Generation, LLC.

Description: Compliance filing: Informational Filing Regarding Upstream Transfer of Ownership to be effective N/A.

Filed Date: 2/4/25.

Accession Number: 20250204-5178.

Comment Date: 5 p.m. ET 2/25/25.

Docket Numbers: ER14-874-008.

Applicants: Calpine Bethlehem, LLC.

Description: Compliance filing: Informational Filing Regarding Upstream Transfer of Ownership to be effective N/A.

Filed Date: 2/4/25.

Accession Number: 20250204-5170.

Comment Date: 5 p.m. ET 2/25/25.

Docket Numbers: ER14-875-008.

Applicants: Calpine Mid-Atlantic Generation, LLC.

Description: Compliance filing: Informational Filing Regarding Upstream Transfer of Ownership to be effective N/A.

Filed Date: 2/4/25.

Accession Number: 20250204-5171.

Comment Date: 5 p.m. ET 2/25/25.

Docket Numbers: ER15-2495-009.

Applicants: Calpine New Jersey Generation, LLC.

Description: Compliance filing: Informational Filing Regarding Upstream Transfer of Ownership to be effective N/A.

Filed Date: 2/4/25.

Accession Number: 20250204-5180.

Comment Date: 5 p.m. ET 2/25/25.

Docket Numbers: ER17-2566-008.

Applicants: Calpine Mid-Atlantic Generation, LLC.

Description: Compliance filing: Informational Filing Regarding Upstream Transfer of Ownership to be effective N/A.

Filed Date: 2/4/25.

Accession Number: 20250204-5172.

Comment Date: 5 p.m. ET 2/25/25.

Docket Numbers: ER18-2118-020; ER20-2019-012; ER11-2642-028; ER10-1849-034; ER10-1852-106; ER10-1951-080; ER11-4462-103; ER12-895-033; ER12-1228-035; ER13-712-036; ER13-2474-028; ER14-2707-030; ER14-2708-031; ER14-2709-030; ER14-2710-030; ER15-30-028; ER15-58-028; ER15-1925-028; ER15-2676-027; ER16-1440-024; ER16-1672-026; ER16-2190-024; ER16-2191-024; ER16-2240-024; ER16-2241-023; ER16-2275-023; ER16-2276-023; ER16-2297-024; ER16-2453-025; ER17-838-077; ER17-2152-021; ER18-882-022; ER18-1981-019; ER18-2003-019; ER18-2032-019; ER18-2066-014; ER18-2182-020; ER18-2314-017; ER19-1128-013; ER19-2495-015; ER19-2513-015; ER20-637-013; ER20-780-013; ER20-792-013; ER20-1907-012; ER20-1986-011; ER20-1991-013; ER20-2064-013; ER20-2179-012; ER20-2237-013; ER20-2597-013; ER20-2603-013; ER20-2648-012; ER21-1990-009; ER21-2117-011; ER21-2149-011; ER21-2225-011; ER21-2296-010; ER21-2699-012; ER22-1982-010; ER22-2516-006; ER23-2629-005; ER24-2791-001; ER24-2792-002; ER24-2793-002; ER24-2794-002.

Applicants: Minco II Energy Storage, LLC, Ponderosa Wind II, LLC, Oliver Wind IV, LLC, Breckinridge Energy Storage, LLC, High Banks Wind, LLC, Chaves County Solar II, LLC, Great Prairie Wind, LLC, Minco Wind Energy III, LLC, Ensign Wind Energy, LLC, Irish Creek Wind, LLC, Minco Wind Energy II, LLC, Little Blue Wind Project, LLC, Blackwell Wind Energy, LLC, Northern Divide Wind, LLC, Skeleton Creek Wind, LLC, Soldier Creek Wind, LLC, Weatherford Wind, LLC, Baldwin Wind Energy, LLC, High Majestic Wind I, LLC, Ponderosa Wind, LLC, Day County Wind I, LLC, Minco Wind I, LLC, Oklahoma Wind, LLC, Sooner Wind, LLC, Wilton Wind Energy I, LLC, Wilton Wind Energy II, LLC, Wessington Springs Wind, LLC, Rush Springs Energy Storage, LLC, Sholes Wind Energy, LLC, Minco IV & V Interconnection, LLC, Minco Wind IV, LLC, Wildcat Ranch Wind Project, LLC, Lorenzo Wind, LLC, Pratt Wind, LLC, Elk City Renewables II, LLC, Cottonwood Wind Project, LLC, NextEra Energy Marketing, LLC, Brady Interconnection, LLC, Osborn Wind Energy, LLC, Kingman Wind Energy II, LLC, Kingman Wind Energy I, LLC, Ninn escah Wind Energy, LLC, Rush Springs Wind Energy, LLC, Brady Wind II, LLC, Brady Wind, LLC, Chaves County Solar, LLC, Roswell Solar, LLC, Cedar Bluff Wind, LLC, Breckinridge Wind Project, LLC, Palo Duro Wind Interconnection Services, LLC, Seiling Wind Interconnection Services, LLC, Palo Duro Wind Energy, LLC, Seiling Wind II, LLC, Seiling Wind, LLC, Mammoth Plains Wind Project, LLC, Steele Flats Wind Project, LLC, Cimarron Wind Energy, LLC, High Majestic Wind II, LLC, Minco Wind Interconnection Services, LLC, NEPM II, LLC, NextEra Energy Services Massachusetts, LLC, Florida Power & Light Company, Elk City Wind, LLC, FPL Energy South Dakota Wind, LLC, Gray County Wind, LLC, Armadillo Flats Wind Project, LLC.

Description: Notice of Change in Status of Armadillo Flats Wind Project, LLC, et al.

Filed Date: 1/31/25.

Accession Number: 20250131-5569.

Comment Date: 5 p.m. ET 2/21/25.

Docket Numbers: ER19-2916-007.

Applicants: Calpine Mid-Merit II, LLC.

Description: Compliance filing: Informational Filing Regarding Upstream Transfer of Ownership to be effective N/A.

Filed Date: 2/4/25.

Accession Number: 20250204-5176.

Comment Date: 5 p.m. ET 2/25/25.

Docket Numbers: ER24-1289-003; ER24-1287-004; ER24-1288-004; ER24-1804-004; ER24-2512-003; ER24-2513-003; ER24-2514-003; ER24-2663-002; ER24-2664-002; ER24-2792-003; ER24-2793-003; ER24-2802-001; ER24-2848-003; ER25-109-002.

Applicants: Silver State South Storage, LLC, Troutdale Grid, LLC, Steele Flats Wind I, LLC, Ponderosa Wind II, LLC, Oliver Wind IV, LLC, Cedar Springs Wind IV, LLC, Anticline Wind, LLC, FRP Gadsden County Solar, LLC, FRP Columbia County Solar, LLC, FRP Gilchrist County Solar, LLC, Clearwater Wind III, LLC, Washington County Solar, LLC, Wadley Solar, LLC, Decatur Solar Energy Center, LLC.

Description: Notice of Change in Status of Decatur Solar Energy Center, LLC, et al.

Filed Date: 1/31/25.

Accession Number: 20250131-5571.

Comment Date: 5 p.m. ET 2/21/25.

Docket Numbers: ER25-1182-000.

Applicants: Duke Energy Indiana, LLC.

Description: § 205(d) Rate Filing: DEI-Tipmont Wholesale Distribution Agreement Rs No. 285 to be effective 6/1/2025.

Filed Date: 2/4/25.

Accession Number: 20250204-5177.

Comment Date: 5 p.m. ET 2/25/25.

Docket Numbers: ER25-1183-000.

Applicants: Tri-State Generation and Transmission Association, Inc.

Description: § 205(d) Rate Filing: Initial Filing of Service Agreement Nos. 620 to 629 to be effective 4/6/2025.

Filed Date: 2/4/25.

Accession Number: 20250204-5191.

Comment Date: 5 p.m. ET 2/25/25.

Docket Numbers: ER25-1184-000.

Applicants: Airport Solar LLC.

Description: § 205(d) Rate Filing: Revised Market-Based Rate Tariff Filing to be effective 2/6/2025.

Filed Date: 2/5/25.

Accession Number: 20250205-5017.

Comment Date: 5 p.m. ET 2/26/25.

Docket Numbers: ER25-1185-000.

Applicants: Arroyo Energy Storage LLC.

Description: § 205(d) Rate Filing: Revised Market-Based Rate Tariff Filing to be effective 2/6/2025.

Filed Date: 2/5/25.

Accession Number: 20250205-5018.

Comment Date: 5 p.m. ET 2/26/25.

Docket Numbers: ER25-1186-000.

Applicants: Arroyo Solar LLC.

Description: § 205(d) Rate Filing: Revised Market-Based Rate Tariff Filing to be effective 2/6/2025.

Filed Date: 2/5/25.

Accession Number: 20250205-5021.

Comment Date: 5 p.m. ET 2/26/25.

Docket Numbers: ER25-1187-000.

Applicants: Assembly Solar II, LLC.

Description: § 205(d) Rate Filing: Revised Market-Based Rate Tariff Filing to be effective 2/6/2025.

Filed Date: 2/5/25.

Accession Number: 20250205-5025.

Comment Date: 5 p.m. ET 2/26/25.

Docket Numbers: ER25-1188-000.

Applicants: Assembly Solar III, LLC.

Description: § 205(d) Rate Filing: Revised Market-Based Rate Tariff Filing to be effective 2/6/2025.

Filed Date: 2/5/25.

Accession Number: 20250205-5026.

Comment Date: 5 p.m. ET 2/26/25.

Docket Numbers: ER25-1189-000.

Applicants: Balko Wind Transmission, LLC.

Description: § 205(d) Rate Filing: Revised Market-Based Rate Tariff Filing to be effective 2/6/2025.

Filed Date: 2/5/25.

Accession Number: 20250205-5028.

Comment Date: 5 p.m. ET 2/26/25.

Docket Numbers: ER25-1190-000.

Applicants: Bartonsville Energy Facility, LLC.

Description: § 205(d) Rate Filing: Revised Market-Based Rate Tariff Filing to be effective 2/6/2025.

Filed Date: 2/5/25.

Accession Number: 20250205-5029.

Comment Date: 5 p.m. ET 2/26/25.

Docket Numbers: ER25-1191-000.

Applicants: Blue Bird Solar, LLC.

Description: § 205(d) Rate Filing: Revised Market-Based Rate Tariff Filing to be effective 2/6/2025.

Filed Date: 2/5/25.

Accession Number: 20250205-5033.

Comment Date: 5 p.m. ET 2/26/25.

Docket Numbers: ER25-1192-000.

Applicants: Castle Solar, LLC.

Description: § 205(d) Rate Filing: Revised Market-Based Rate Tariff Filing to be effective 2/6/2025.

Filed Date: 2/5/25.

Accession Number: 20250205-5034.

Comment Date: 5 p.m. ET 2/26/25.

Docket Numbers: ER25-1193-000.

Applicants: Cove Mountain Solar 2, LLC.

Description: § 205(d) Rate Filing: Revised Market-Based Rate Tariff Filing to be effective 2/6/2025.

Filed Date: 2/5/25.

Accession Number: 20250205-5036.

Comment Date: 5 p.m. ET 2/26/25.

Docket Numbers: ER25-1194-000.

Applicants: Cove Mountain Solar, LLC.

Description: § 205(d) Rate Filing: Revised Market-Based Rate Tariff Filing to be effective 2/6/2025.

Filed Date: 2/5/25.

Accession Number: 20250205-5037.

Comment Date: 5 p.m. ET 2/26/25.

Docket Numbers: ER25-1195-000.

Applicants: Drew Solar, LLC.

Description: § 205(d) Rate Filing: Revised Market-Based Rate Tariff Filing to be effective 2/6/2025.

Filed Date: 2/5/25.

Accession Number: 20250205-5038.

Comment Date: 5 p.m. ET 2/26/25.

Docket Numbers: ER25-1196-000.

Applicants: DWW Solar II, LLC.

Description: § 205(d) Rate Filing: Revised Market-Based Rate Tariff Filing to be effective 2/6/2025.

Filed Date: 2/5/25.

Accession Number: 20250205-5039.

Comment Date: 5 p.m. ET 2/26/25.

Docket Numbers: ER25-1197-000.

Applicants: Balko Wind, LLC.

Description: § 205(d) Rate Filing: Revised Market-Based Rate Tariff Filing to be effective 2/6/2025.

Filed Date: 2/5/25.

Accession Number: 20250205-5040.

Comment Date: 5 p.m. ET 2/26/25.

Docket Numbers: ER25-1198-000.

Applicants: Elektron Solar, LLC.

Description: § 205(d) Rate Filing: Revised Market-Based Rate Tariff Filing to be effective 2/6/2025.

Filed Date: 2/5/25.

Accession Number: 20250205-5042.

Comment Date: 5 p.m. ET 2/26/25.

Docket Numbers: ER25-1199-000.

Applicants: Gravel Pit Solar III, LLC.

Description: § 205(d) Rate Filing: Revised Market-Based Rate Tariff Filing to be effective 2/6/2025.

Filed Date: 2/5/25.

Accession Number: 20250205-5043.

Comment Date: 5 p.m. ET 2/26/25.

Docket Numbers: ER25-1200-000.

Applicants: Gravel Pit Solar IV, LLC.

Description: § 205(d) Rate Filing: Revised Market-Based Rate Tariff Filing to be effective 2/6/2025.

Filed Date: 2/5/25.

Accession Number: 20250205-5046.

Comment Date: 5 p.m. ET 2/26/25.

Docket Numbers: ER25-1201-000.

Applicants: PJM Interconnection, L.L.C.

Description: § 205(d) Rate Filing: Amendment to WMPA, SA No. 4841; Queue No. AC2-136 (amend) to be effective 4/7/2025.

Filed Date: 2/5/25.

Accession Number: 20250205-5052.

Comment Date: 5 p.m. ET 2/26/25.

Docket Numbers: ER25-1202-000.

Applicants: Rancho Seco Solar, LLC.

Description: § 205(d) Rate Filing: Revised Market-Based Rate Tariff Filing to be effective 2/6/2025.

Filed Date: 2/5/25.

Accession Number: 20250205-5054.

Comment Date: 5 p.m. ET 2/26/25.

Docket Numbers: ER25-1203-000.

Applicants: Hecate Energy Highland LLC.

Description: § 205(d) Rate Filing: Revised Market-Based Rate Tariff Filing to be effective 2/6/2025.

Filed Date: 2/5/25.

Accession Number: 20250205-5055.

Comment Date: 5 p.m. ET 2/26/25.

Docket Numbers: ER25-1204-000.

Applicants: Horseshoe Solar, LLC.

Description: § 205(d) Rate Filing: Revised Market-Based Rate Tariff Filing to be effective 2/6/2025.

Filed Date: 2/5/25.

Accession Number: 20250205-5056.

Comment Date: 5 p.m. ET 2/26/25.

Docket Numbers: ER25-1205-000.

Applicants: Hunter Solar LLC.

Description: § 205(d) Rate Filing: Revised Market-Based Rate Tariff Filing to be effective 2/6/2025.

Filed Date: 2/5/25.

Accession Number: 20250205-5057.

Comment Date: 5 p.m. ET 2/26/25.

Docket Numbers: ER25-1206-000.

Applicants: Hunter Solar, LLC.

Description: § 205(d) Rate Filing: Revised Market-Based Rate Tariff Filing to be effective 2/6/2025.

Filed Date: 2/5/25.

Accession Number: 20250205-5058.

Comment Date: 5 p.m. ET 2/26/25.

Docket Numbers: ER25-1207-000.

Applicants: Long Lake Solar, LLC.

Description: § 205(d) Rate Filing: Revised Market-Based Rate Tariff Filing to be effective 2/6/2025.

Filed Date: 2/5/25.

Accession Number: 20250205-5059.

Comment Date: 5 p.m. ET 2/26/25.

Docket Numbers: ER25-1208-000.

Applicants: MS Solar 2, LLC.

Description: § 205(d) Rate Filing: Revised Market-Based Rate Tariff Filing to be effective 2/6/2025.

Filed Date: 2/5/25.

Accession Number: 20250205-5060.

Comment Date: 5 p.m. ET 2/26/25.

Docket Numbers: ER25-1209-000.

Applicants: River Fork Solar, LLC.

Description: § 205(d) Rate Filing: Revised Market-Based Rate Tariff Filing to be effective 2/6/2025.

Filed Date: 2/5/25.

Accession Number: 20250205-5061.

Comment Date: 5 p.m. ET 2/26/25.

Docket Numbers: ER25-1210-000.

Applicants: Rocket Solar, LLC.

Description: § 205(d) Rate Filing: Revised Market-Based Rate Tariff Filing to be effective 2/6/2025.

Filed Date: 2/5/25.

Accession Number: 20250205-5062.

Comment Date: 5 p.m. ET 2/26/25.

Docket Numbers: ER25-1211-000.

Applicants: Rocking R Solar, LLC.

Description: § 205(d) Rate Filing: Revised Market-Based Rate Tariff Filing to be effective 2/6/2025.

Filed Date: 2/5/25.

Accession Number: 20250205-5063.

Comment Date: 5 p.m. ET 2/26/25.

Docket Numbers: ER25-1212-000.

Applicants: San Juan Solar 1, LLC.

Description: § 205(d) Rate Filing: Revised Market-Based Rate Tariff Filing to be effective 2/6/2025.

Filed Date: 2/5/25.

Accession Number: 20250205-5064.

Comment Date: 5 p.m. ET 2/26/25.

Docket Numbers: ER25-1213-000.

Applicants: Sigurd Solar LLC.

Description: § 205(d) Rate Filing: Revised Market-Based Rate Tariff Filing to be effective 2/6/2025.

Filed Date: 2/5/25.

Accession Number: 20250205-5065.

Comment Date: 5 p.m. ET 2/26/25.

Docket Numbers: ER25-1214-000.

Applicants: SJS 1 Storage, LLC.

Description: § 205(d) Rate Filing: Revised Market-Based Rate Tariff Filing to be effective 2/6/2025.

Filed Date: 2/5/25.

Accession Number: 20250205-5066.

Comment Date: 5 p.m. ET 2/26/25.

Docket Numbers: ER25-1215-000.

Applicants: Speedway Solar, LLC.

Description: § 205(d) Rate Filing: Revised Market-Based Rate Tariff Filing to be effective 2/6/2025.

Filed Date: 2/5/25.

Accession Number: 20250205-5067.

Comment Date: 5 p.m. ET 2/26/25.

Docket Numbers: ER25-1216-000.

Applicants: Steel Solar, LLC.

Description: § 205(d) Rate Filing: Revised Market-Based Rate Tariff Filing to be effective 2/6/2025.

Filed Date: 2/5/25.

Accession Number: 20250205-5069.

Comment Date: 5 p.m. ET 2/26/25.

Docket Numbers: ER25-1217-000.

Applicants: Willow Springs Solar, LLC.

Description: § 205(d) Rate Filing: Revised Market-Based Rate Tariff Filing to be effective 2/6/2025.

Filed Date: 2/5/25.

Accession Number: 20250205-5071.

Comment Date: 5 p.m. ET 2/26/25.

Docket Numbers: ER25-1218-000.

Applicants: Niagara Mohawk Power Corporation, New York Independent System Operator, Inc.

Description: § 205(d) Rate Filing: New York Independent System Operator, Inc. submits tariff filing per 35.13(a)(2)(iii: NYISO—National Grid Joint 205: 2nd Amended SGIA Grissom Solar SA2573 to be effective 1/27/2025.

Filed Date: 2/5/25.

Accession Number: 20250205-5073.

Comment Date: 5 p.m. ET 2/26/25.

Docket Numbers: ER25-1219-000.

Applicants: Sunlight Road Solar, L.L.C.

Description: § 205(d) Rate Filing: Revised Market-Based Rate Tariff Filing to be effective 2/6/2025.

Filed Date: 2/5/25.

Accession Number: 20250205-5074.

Comment Date: 5 p.m. ET 2/26/25.

Docket Numbers: ER25-1220-000.

Applicants: Golden Fields Solar IV Bess LLC.

Description: § 205(d) Rate Filing: Market-Based Rate Application and Request for Waivers and Blanket Approvals to be effective 4/5/2025.

Filed Date: 2/5/25.

Accession Number: 20250205-5075.

Comment Date: 5 p.m. ET 2/26/25.

Docket Numbers: ER25-1221-000.

Applicants: Midcontinent Independent System Operator, Inc., Michigan Electric Transmission Company, LLC.

Description: § 205(d) Rate Filing: Michigan Electric Transmission Company, LLC submits tariff filing per 35.13(a)(2)(iii: 2025-02-05_SA 4444 METC—Consumers Energy E&P (J2098) to be effective 2/3/2025.

Filed Date: 2/5/25.

Accession Number: 20250205-5079.

Comment Date: 5 p.m. ET 2/26/25.

Docket Numbers: ER25-1222-000.

Applicants: Golden Fields Solar IV, LLC.

Description: Initial rate filing: Market-Based Rate Application and Request for Waivers and Blanket Approvals to be effective 4/5/2025.

Filed Date: 2/5/25.

Accession Number: 20250205-5112.

Comment Date: 5 p.m. ET 2/26/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, local communities, Tribal members and others, access publicly available information and navigate Commission processes. For public inquiries and assistance with making filings such as interventions, comments, or requests for rehearing, the public is encouraged to contact OPP at (202) 502-6595 or OPP@ferc.gov.

Dated: February 5, 2025.
Carlos D. Clay,
Deputy Secretary.

[FR Doc. 2025-02451 Filed 2-10-25; 8:45 am]

BILLING CODE 6717-01-P